DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is October 20, 2022. If the Federal law that authorizes judicial review of a claim provides a time period of less than 150 days for filing such a claim, then that shorter time period still applies.

FOR FURTHER INFORMATION CONTACT: Patrick Lee, Environmental Affairs Division, Texas Department of Transportation, 125 East 11th Street, Austin, Texas 78701; telephone: (512) 416-2358; email: Patrick.Lee@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 9, 2019, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting the local TxDOT office at the address or telephone number provided for each project below.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377] (Section 404, Section 401, Section 319); Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Executive Orders: E.O. 11990 Protection of Wetlands; E.O. 11988 Floodplain Management; E.O. 12898 Federal Actions to Address Environmental Justice in Minority Populations and Low-Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. Cesar Chavez Road, from BUS US 83 to Nolana Loop, in Hidalgo County, Texas. The purpose of the project is to improve safety and mobility by reconstructing Cesar Chavez Road from a rural 24-foot-wide roadway to an urban 64-foot-wide roadway with two travel lanes, shared use lanes, sidewalks, and storm drain improvements. The proposed project length is approximately 3.8 miles. The actions by TxDOT and Federal agencies and the laws under which such actions were taken are described in the Categorical Exclusion Determination issued on December 2, 2021, and other documents in the TxDOT project file. The Categorical Exclusion Determination and other documents in the TxDOT project file are available by contacting the TxDOT Pharr District Office 600 W Interstate 2, Pharr, TX 78577; telephone: (956) 702-6100.

2. FM 1925, from Wallace Street to McColl Road, in Hidalgo County, Texas. The purpose of the project is to improve safety and mobility by widening and reconstructing FM 1925 from a rural 40-foot-wide roadway to an urban 110-foot-wide roadway with six travel lanes, shoulders, a raised median, sidewalks, and storm drain improvements. The proposed project length is approximately 5.2 miles. The actions by TxDOT and Federal agencies and the laws under which such actions were taken are described in the Categorical Exclusion Determination issued on December 8, 2021, and other documents in the TxDOT project file. The Categorical Exclusion Determination and other documents in the TxDOT project file are available by contacting the TxDOT Pharr District Office 600 W Interstate 2, Pharr, TX 78577; telephone: (956) 702-6100.

3. SL 378 Widening and Intersection, in Tom Green County, Texas. This project would extend for a total of 2.4 miles along SL 378, from 500 feet north of FM 1223 to 1,300 feet south of Fairview School Road and The Crossings Avenue. SL 378 would be widened to a five-lane facility, providing two travel lanes in each direction with a center turn lane. Sidewalks would be provided on both sides of the roadway. The project would primarily take place within the 100-foot-wide ROW on SL 378; however, the project proposes to realign the intersection at Fairview School Road which would require 1.47 acres of new ROW. The actions by TxDOT and Federal agencies and the laws under which such actions were taken are described in the Categorical Exclusion Determination issued on December 13, 2021, and other documents in the TxDOT project file. The Categorical Exclusions Determination and other documents in the TxDOT project file are available by contacting the TxDOT San Angelo District Office at 4502 Knickerbocker Rd., San Angelo, TX 76904; telephone: (325) 944-1501.

4. FM 1593 from 1.62 miles north of the Calhoun County line to SH 35 in Jackson and Calhoun Counties, Texas. The proposed FM 1593 improvements would include widening the existing roadway for a total of 3.5 miles in Jackson and Calhoun counties, in front of the Formosa Plastics Corp. plant and north of Point Comfort, Texas. The roadway would be widened to support two 12-foot northbound and southbound lanes, 8-foot shoulders on each side and a 14-foot center turn lane throughout the limits. At all Formosa plant entrances, northbound 12-foot acceleration and deceleration lanes with 4 ft. shoulders would be constructed. Approximately 12.95 acres of new ROW would be needed; the existing ROW will be widened from 120 feet to 150-160 feet. The purpose of the project is to improve mobility and enhance safety along FM 1593. The actions by TxDOT and Federal agencies and the laws under which such actions were taken are described in the Categorical Exclusion Determination issued on January 12, 2022, and other documents in the TxDOT project file. The Categorical Exclusion Determination and other documents in the TxDOT project file are available by contacting the TxDOT Yoakum District Office at 403 Huck St., Yoakum, TX 77995; telephone: (361) 293-4436.

5. IH 20 Corridor, JBS Parkway to East of SH 349, Ector and Midland Counties, Texas. TxDOT is proposing improvements along 1-20 from east of SH 349 in the City of Midland, Midland County to east of John Ben Shepperd Parkway in the City of Odessa, Ector County. The total project length is approximately 16.4 miles. Improvements would include adding main lanes, constructing new interchanges, reconfiguring ramps, converting frontage roads from two-way operation to one-way operation, and adding turn lanes at intersections. The actions by TxDOT and Federal agencies and the laws under which such actions were taken are described in the Categorical Exclusion Determination issued on February 8, 2022, and other documents in the TxDOT project file. The Categorical Exclusion Determination and other documents in the TxDOT project file are available by contacting the TxDOT Odessa District Office at 3901 East Highway 80, Odessa, Texas 79761; telephone: (432) 498-4746.

6. FM 3349/CR 101 at US 79 from CR 395 to CR 404, Williamson County, Texas. The project includes widening the existing undivided two-lane FM 3349 and CR 101 facilities into four-lane divided facilities, constructing a grade-separation to elevate FM 3349/CR 101 over US 79 and the Union Pacific Railroad (which is adjacent to and paralleling US 79), and constructing a local access road “jug handle” to provide connectivity between the existing US 79 facility and the proposed FM 3349/CR 101 facility. The length of the jug handle would be approximately 0.65 mile. The length of the project along FM 3349 and CR 101 would be approximately 2.89 miles. The actions by TxDOT and Federal agencies and the laws under which such actions were taken are described in the Final Environmental Assessment (EA), Finding of No Significant Impact (FONSI) issued on January 6, 2022, and other documents in the TxDOT project file. The EA, FONSI, and other documents in the TxDOT project file are available by contacting the TxDOT Austin District Office at 7901 North I-35, Austin, TX 78753; telephone: (512) 832-7000.

7. FM 756 Paluxy Widening, from Jeff Davis Drive to FM 344, in Smith County, Texas. The purpose of the project is to improve mobility, safety, and upgrade the roadway design by widening the existing two-lane facility to a four-lane facility divided by a flush two-way left turn lane, including a grade-separated intersection at FM 346. The proposed project is approximately 6.8 miles in length. The actions by TxDOT and Federal agencies and the laws under which such actions were taken are described in the Final Environmental Assessment (EA), the Finding of No Significant Impact (FONSI) issued on January 7, 2022, and other documents in the TxDOT project file. The EA, FONSI, and other documents in the TxDOT project file are available by contacting the TxDOT Tyler District Office 2709 W Front St., Tyler, TX 75702; telephone: (903) 510-9100. The EA and FONSI can also be viewed and downloaded from the following website: https://www.txdot.gov/inside-txdot/projects/studies/tyler/fm-756.html.

8. US Highway 77 from SH 71 to approximately 0.56 miles north of County Road 156 in Fayette and Lee counties, Texas. The proposed US 77 improvements would include the expansion of the existing roadway to a four-lane divided facility for a total length of approximately 11.6 miles in Fayette and Lee counties north of La Grange, Texas. The northbound and southbound roadways would be constructed with two 12-foot travel lanes, 10-foot outside shoulders, and 4-foot inside shoulders. The median would vary between 56 and 68 feet wide. Twelve-foot left turn lanes would be constructed at multiple intersections within the project area. Near the southern project terminus and through Warda, where right-of-way is restricted to a width between 120 to 175 feet, a 14-foot dual center left turn lane would be constructed between the mainlanes. The purpose of the project is to improve mobility and enhance safety along US 77. The actions by TxDOT and Federal agencies and the laws under which such actions were taken are described in the Final Environmental Assessment (EA), the Finding of No Significant Impact (FONSI) issued on January 19, 2022, and other documents in the TxDOT project file. The EA, FONSI, and other documents in the TxDOT project file are available by contacting the TxDOT Yoakum District Office at 403 Huck St., Yoakum, TX 77995; telephone: (361) 293-4436.

9. US 59 and US 77 from FM 236 to BU 77 in Victoria County, Texas. The proposed project would extend for a total of 5.12 miles along US 59 and US 77 from FM 236 to BU 77. The proposed improvements would upgrade the existing roadway to a controlled access facility. This includes the construction of divided mainlanes that consist of four 12-foot-wide travel lanes, two in each direction, 4-foot-wide inside shoulders, and 10-foot-wide outside shoulders. One-way frontage roads that consist of two 12-foot-wide travel lanes with a 4-foot inside shoulder and a 10-foot outside shoulder would also be constructed throughout the project limits. The project would include the construction of direct connectors for US 59 northbound and southbound at BU 77, and a grade separated interchange is proposed at US 77 and Old Goliad Road. The purpose of the project is to improve mobility and safety by providing a divided roadway with one-way frontage roads. The actions by TxDOT and Federal agencies and the laws under which such actions were taken are described in the Final Environmental Assessment (EA), the Finding of No Significant Impact (FONSI) issued on February 11, 2022, and other documents in the TxDOT project file. The EA, FONSI, and other documents in the TxDOT project file are available by contacting the TxDOT Yoakum District Office at 403 Huck St., Yoakum, TX 77995; telephone: (361) 293-4436.

Authority: 23 U.S.C. 139(l)(1).

Michael T. Leary,
Director, Planning and Program Development, Federal Highway Administration.

[FR Doc. 2022-10864 Filed 5-20-22; 8:45 am]

BILLING CODE 4910-22-P